DEPARTMENT OF THE INTERIOR

National Park Service

[NPS-WASO-NRNHL-14150; PPWOCRADI0, PCU00RP14.R50000]

National Register of Historic Places; Notification of Pending Nominations and Related Actions

Nominations for the following properties being considered for listing or related actions in the National Register were received by the National Park Service before September 14, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 18, 2013. Before including your address, phone number, email address, or other personal identifying information in your comment, you should be aware that your entire comment—including your personal identifying information—may be made publicly available at any time. While you can ask us in your comment to withhold your personal identifying information from public review, we cannot guarantee that we will be able to do so.

Dated: September 20, 2013.
J. Paul Loether,
Chief,National Register of Historic Places/National Historic Landmarks Program.

FLORIDA

Gilchrist County

Cannon Farm, 5470 NW. 37th Ct., Bell, 13000851

Hillsborough County

Fort Homer W. Hesterly National Guard Armory, 522 N. Howard Ave., Tampa, 13000852

Lee County

Captiva School and Chapel-by-the-Sea Historic District, 11580 Chapin Ln., Captiva, 13000853

ILLINOIS

Jo Daviess County

Galena Historic District (Boundary Increase and Decrease), Roughly bounded by Davis Cr., 4th, 5th, Adams, Field, Wann, N. Dodge, Fulton, N. Hickory, Hill, Ridge & Spring Sts., Galena, 13000854

KANSAS

Butler County

El Dorado Historic District, Roughly 1 blk. E. & W. of N. & S. Main Sts. from E. 3rd to E. Locust Aves., El Dorado, 13000855

Wabaunsee County

Thoes, Peter, Barn, (Agriculture-Related Resources of Kansas MPS) 25709 Hessdale Rd., Alma, 13000856

MISSOURI

Lincoln County

Downtown Troy Historic District, Bounded by Annie Ave., 2nd, Marble & Court Sts., Troy, 13000857

St. Louis Independent city

Dorris Row, 1105-9 Olive St., St. Louis (Independent City), 13000858

OREGON

Deschutes County

Petersen Rock Garden, 7930 SW. 77th St., Redmond, 13000859

WISCONSIN

Brown County

Hotel Northland, 304 N. Adams St., Green Bay, 13000860

[FR Doc. 2013-24167 Filed 10-2-13; 8:45 am]

BILLING CODE 4312-51-P